SMALL BUSINESS ADMINISTRATION

[Disaster Declaration #15980 and #15981; South Dakota Disaster Number SD-00092]

Presidential Declaration Amendment of a Major Disaster for the State of South Dakota

AGENCY: U.S. Small Business Administration.

ACTION: Amendment 1.

SUMMARY: This is an amendment of the Presidential declaration of a major disaster for the State of South Dakota (FEMA-4440-DR), dated 06/07/2019.

Incident: Severe Winter Storm, Snowstorm, and Flooding.

Incident Period: 03/13/2019 through 04/26/2019.

DATES: Issued on 06/07/2019.

Physical Loan Application Deadline Date: 08/06/2019.

Economic Injury (EIDL) Loan Application Deadline Date: 03/09/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of South Dakota, dated 06/07/2019, is hereby amended to include the following areas as adversely affected by the disaster:

Primary Counties (Physical Damage and Economic Injury Loans): Turner

Contiguous Counties (Economic Injury Loans Only): None

All other information in the original declaration remains unchanged.

(Catalog of Federal Domestic Assistance Number 59008)

James Rivera,
Associate Administrator for Disaster Assistance.

[FR Doc. 2019-14145 Filed 7-2-19; 8:45 am]

BILLING CODE 8026-03-P